FEDERAL ELECTION COMMISSION

Sunshine Act Meeting

AGENCY: Federal Election Commission.

ACTION: Notice.

DATES: Tuesday, August 16, 2016 at the conclusion of the open meeting.

ADDRESSES: 999 E Street NW., Washington, DC

STATUS: This meeting will be closed to the public.

ITEMS TO BE DISCUSSED: Compliance matters pursuant to 52 U.S.C. 30109. Matters concerning participation in civil actions or proceeding, or arbitration. Information the premature disclosure of which would be likely to have a considerable adverse effect on the implementation of a proposed Commission action.

FOR MORE INFORMATION CONTACT: Judith Ingram, Press Officer. Telephone: (202) 694-1220.

Shelley E. Garr,
Deputy Secretary.

[FR Doc. 2016-19246 Filed 8-9-16; 4:15 pm]

BILLING CODE 6715-01-P